ENVIRONMENTAL PROTECTION AGENCY

40 CFR Part 82

[EPA-HQ-OAR-2017-0472; FRL-9968-23-OAR]

RIN 2060-AT53

Protection of Stratospheric Ozone: Revision to References for Refrigeration and Air Conditioning Sector To Incorporate Latest Edition of Certain Industry, Consensus-Based Standards

AGENCY: Environmental Protection Agency (EPA).

ACTION: Notice of proposed rulemaking.

SUMMARY: The U.S. Environmental Protection Agency (EPA) is proposing to modify the use conditions required for use of three flammable refrigerants, isobutane (R-600a), propane (R-290), and R-441A, in new household refrigerators, freezers, and combination refrigerators and freezers under the Significant New Alternatives Policy (SNAP) program. The use conditions, which address safe use of flammable refrigerants, would reflect the incorporation by reference of an updated standard from Underwriters Laboratories. In the “Rules and Regulations” section of this Federal Register, we are modifying these use conditions as a direct final rule without a prior proposed rule. If we receive no adverse comment, we will not take further action on this proposed rule.

DATES: Written comments must be received on or before January 25, 2018. Any party requesting a public hearing must notify the contact listed below under FOR FURTHER INFORMATION CONTACT by December 18, 2017.

ADDRESSES: Submit your comments, identified by Docket ID No. EPA-HQ-OAR-2017-0472, to the Federal eRulemaking Portal: https://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

FOR FURTHER INFORMATION CONTACT: Chenise Farquharson, Stratospheric Protection Division, Office of Atmospheric Programs (Mail Code 6205T), Environmental Protection Agency, 1200 Pennsylvania Ave. NW., Washington, DC 20460; telephone number: 202-564-7768; email address: farquharson.chenise@epa.gov. Notices and rulemakings under EPA's Significant New Alternatives Policy program are available on EPA's Stratospheric Ozone Web site at https://www.epa.gov/snap/snap-regulations.

SUPPLEMENTARY INFORMATION:

I. What is EPA proposing?

This action proposes to revise the use conditions for three flammable hydrocarbon refrigerants, isobutane (R-600a), propane (R-290), and R-441A, used in new household refrigerators, freezers, and combination refrigerators and freezers under EPA's Significant New Alternatives Policy (SNAP) program. This action would replace four of the five use conditions in our previous hydrocarbon refrigerants rules (76 FR 78832, December 20, 2011; 80 FR 19454, April 10, 2015) with the updated Underwriters Laboratories (UL) Standard 60335-2-24 (2nd edition, April 28, 2017), “Household and Similar Electrical Appliances—Safety—Part 2-24: Particular Requirements for Refrigerating Appliances, Ice-Cream Appliances and Ice-Makers.” UL Standard 60335-2-24 supersedes the current edition of UL Standard 250 (10th edition, August 25, 2000), “Household Refrigerators and Freezers,” which EPA previously incorporated by reference in the use conditions of the acceptability listings for these three refrigerants (76 FR 78832, December 20, 2011; 80 FR 19454, April 10, 2015). The use conditions would include a charge limit of 150 grams (5.29 ounces) for each separate refrigerant circuit in a refrigerator or freezer, consistent with UL Standard 60335-2-24. The use conditions that would be replaced are reflected in the provisions of UL Standard 60335-2-24 and would be redundant of the standard. Elsewhere in this Federal Register, EPA is taking this action as a direct final rule without prior proposal because EPA views this as a noncontroversial revision and anticipates no adverse comments. This action does not place any significant burden on the regulated community and ensures consistency with industry standards. We have explained our reasons for this action in the preamble to the direct final rule.

If we receive no adverse comment, we will not take further action on this proposed rule. If we receive adverse comment, we will withdraw the direct final rule and it will not take effect. We would address all public comments in any subsequent final rule based on this proposed rule.

We will not institute a second comment period on this action. Any parties interested in commenting on this action should do so at this time. For further information, please see the information provided in the ADDRESSES section of this document.

If requested by the date specified in the DATES section of this notice, EPA will hold a public hearing to accept oral testimony on this proposal on or before December 26, 2017 in Washington, DC. EPA will post all information regarding any public hearing on this proposed action, including whether a hearing will be held, its location, date, and time, if applicable, and any updates online at https://www.epa.gov/snap. In addition, you may contact Ms. Chenise Farquharson at (202) 564-7768 or by email at farquharson.chenise@epa.gov with public hearing requests and inquiries. EPA does not intend to publish any future notices in the Federal Register regarding a public hearing on this proposed rule and directs all inquiries regarding a hearing to the Web site and contact person identified above.

II. Does this action apply to me?

This notice of proposed rulemaking would regulate the use of three flammable hydrocarbon refrigerants, isobutane (R-600a), propane (R-290), and the hydrocarbon blend R-441A, in new household refrigerators, freezers, and combination refrigerators and freezers. Table 1 identifies industry subsectors that might want to explore the use of these flammable refrigerants in this end-use or that might work with equipment using these refrigerants in the future. Regulated entities may include:

Table 1—Potentially Regulated Entities by North American Industrial Classification System (NAICS) Code
Category | NAICS code | Description of regulated entities
Industry | 333415 | Manufacturers of Refrigerators, Freezers, and Other Refrigerating or Freezing Equipment, Electric or Other (NESOI); Heat Pumps Not Elsewhere Specified or Included; and Parts Thereof.
Industry | 335222 | Household Refrigerator and Home Freezer Manufacturing.
Industry | 811412 | Appliance Repair and Maintenance.

This table is not intended to be exhaustive, but rather provides a guide for readers regarding entities likely to be regulated by this action. This table lists the types of entities that EPA is now aware could potentially be regulated by this action. Other types of entities not listed in the table could also be regulated. To determine whether your entity is regulated by this action, you should carefully examine the applicability criteria found in 40 CFR part 82. If you have questions regarding the applicability of this action to a particular entity, consult the person listed in the FOR FURTHER INFORMATION CONTACT section.

III. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 13771: Reducing Regulation and Controlling Regulatory Costs

This action is not expected to be an Executive Order 13771 regulatory action because this action is not significant under Executive Order 12866.

C. Paperwork Reduction Act (PRA)

This action does not impose any new information collection burden under the PRA. OMB has previously approved the information collection requirements contained in the existing regulations and has assigned OMB control number 2060-0226. This rule contains no new requirements for reporting or recordkeeping.

D. Regulatory Flexibility Act

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule.

The use conditions of this rule would apply to manufacturers of new household refrigerators and freezers, that choose to use flammable refrigerants. This action would allow equipment manufacturers to use flammable refrigerants at a higher charge size than previously allowed in new household refrigerators and freezers but does not mandate such use; the change to the use conditions allows more flexibility for manufacturers in the design of equipment and thus reduces regulatory burden to the regulated community. In some cases, it may reduce costs by allowing manufacturers to design equipment with a single, larger refrigerant circuit instead of multiple, smaller refrigerant circuits for the same piece of equipment.

E. Unfunded Mandates Reform Act (UMRA)

This action does not contain any unfunded mandate as described in UMRA, 2 U.S.C. 1531-1538, and does not significantly or uniquely affect small governments. The action imposes no enforceable duty on any state, local or tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. It will not have substantial direct effects on tribal governments, on the relationship between the Federal government and Indian tribes, or on the distribution of power and responsibilities between the Federal government and Indian tribes, as specified in Executive Order 13175. Thus, Executive Order 13175 does not apply to this action.

H. Executive Order 13045: Protection of Children From Environmental Health and Safety Risks

This action is not subject to Executive Order 13045 because it is not economically significant as defined in Executive Order 12866, and because EPA does not believe the environmental health or safety risks addressed by this action present a disproportionate risk to children. This action's health and risk assessments are contained in risk screens for the various substitutes.¹ ² ³ The risk screens are available in the docket for this rulemaking.

¹ ICF, 2017a. Risk Screen on Substitutes in Household Refrigerators and Freezers; Substitute: Propane (R-290).

² ICF, 2017b. Risk Screen on Substitutes in Household Refrigerators and Freezers; Substitute: Isobutane (R-600a).

³ ICF, 2017c. Risk Screen on Substitutes in Household Refrigerators and Freezers; Substitute: R-441A.

I. Executive Order 13211: Actions Concerning Regulations That Significantly Affect Energy Supply, Distribution, or Use

This action is not a “significant energy action” because it is not likely to have a significant adverse effect on the supply, distribution or use of energy.

J. National Technology Transfer and Advancement Act (NTTAA) and 1 CFR Part 51

This action involves a technical standard. EPA is proposing to revise the use conditions for the household refrigerators and freezers end-use by incorporating by reference the UL Standard 60335-2-24, “Safety Requirements for Household and Similar Electrical Appliances, Part 2: Particular Requirements for Refrigerating Appliances, Ice-Cream Appliances and Ice-Makers” (2nd edition, April 2017), which establishes requirements for the evaluation of household and similar electrical appliances, and safe use of flammable refrigerants. UL Standard 60335-2-24 supersedes the current edition of UL Standard 250, Supplement A, “Requirements for Refrigerators and Freezers Employing a Flammable Refrigerant in the Refrigerating System” (10th Edition, August 2000. EPA's revision to the use conditions will replace the 2000 UL standard 250 with the 2017 UL standard 60335-2-24. This standard is available at https://standardscatalog.ul.com/standards/en/standard_60335-2-24_2, and may be purchased by mail at: COMM 2000, 151 Eastern Avenue, Bensenville, IL 60106; Email: orders@shopulstandards.com; Telephone: 1-888-853-3503 in the U.S. or Canada (other countries dial 1-415-352-2178); Internet address: http://www.shopulstandards.com/ProductDetail.aspx?productId=UL60335-2-24_2_B_20170428(ULStandards2). The cost of UL 60335-2-24 is $454 for an electronic copy and $567 for hardcopy. UL also offers a subscription service to the Standards Certification Customer Library (SCCL) that allows unlimited access to their standards and related documents. The cost of obtaining this standard is not a significant financial burden for equipment manufacturers and purchase is not required for those selling, installing and servicing the equipment. Therefore, EPA concludes that the UL standard being incorporated by reference is reasonably available.

K. Executive Order 12898: Federal Actions To Address Environmental Justice in Minority Populations and Low-Income Populations

The human health or environmental risk addressed by this action will not have potential disproportionately high and adverse human health or environmental effects on minority, low-income or indigenous populations. This action's health and environmental risk assessments are contained in the risk screens for the various substitutes. The risk screens are available in the docket for this rulemaking.

List of Subjects in 40 CFR Part 82

Environmental protection, Administrative practice and procedure, Air pollution control, Incorporation by reference, Recycling, Reporting and recordkeeping requirements, Stratospheric ozone layer.

Dated: November 20, 2017.
E. Scott Pruitt,
Administrator.

[FR Doc. 2017-26084 Filed 12-8-17; 8:45 am]

BILLING CODE 6560-50-P